DEPARTMENT OF ENERGY

Office of Energy Efficiency and Renewable Energy

Notice of Public Workshop To Provide Comments on Field Testing and Verification for Project DE-EE0006789, “Assimilation of Wave Imaging Radar Observations for Real-Time Wave-by-Wave Forecasting”

AGENCY: Office of Energy Efficiency and Renewable Energy, Department of Energy.

ACTION: Notice of public workshop.

SUMMARY: The Department of Energy (DOE) is announcing the following web-based public workshop entitled, “Field Testing and Verification for Project DE-EE0006789, [Assimilation of Wave Imaging Radar Observations for Real-time Wave-by-Wave Forecasting]”. The purpose of the meeting is for DOE to obtain industry feedback regarding field testing and verification of the wave-by-wave forecasting system under development.

DATES: The public workshop will be held via webinar on Tuesday, February 16, from 1:00 p.m. EST-4:00 p.m. EST.

ADDRESSES: The meeting will be held via webinar. Please register for the webinar in advance at https://attendee.gotowebinar.com/register/2296218256164279042.

FOR FURTHER INFORMATION CONTACT: Questions may be directed to Tim Ramsey, Department of Energy at (240) 562-1758 or tim.ramsey@ee.doe.gov, or Joel Cline, Department of Energy, at (202) 287-6966 or joel.cline@ee.doe.gov.

SUPPLEMENTARY INFORMATION:

Purpose of the Meeting

The DOE is supporting a project through Oregon State University (OSU) to develop and assess the performance of a method for using wave-resolving marine radar to provide all weather, large-area, phase-resolved, wave forecasts for wave energy converter control applications. The target time horizon for the forecasts will be 3-5 minutes (min) and the target spatial domain will be approximately 3-5 kilometers (km) on a side. A wave forecasting system based on wave-resolving marine radar data will be developed and implemented. The main components of the system are a wave imaging marine radar, a phase-resolving linear wave model based on Mild Slope Equations (Polar-MSE), and a variational inversion algorithm which produces the wave forecast via estimation of the offshore wave boundary conditions. Presently, the algorithm is being validated via testing using synthetic data and comparison to a limited set of in situ observations. The purpose of the meeting is for DOE and OSU to obtain feedback from the marine renewable energy industry regarding field testing and verification of the wave-by-wave forecasting system under development.

Public Participation

Members of the public are welcome to attend the workshop. Registration is free and persons interested in attending this public workshop must register online by 1:00 p.m. EST, February 16, 2016. To register for the public workshop, please visit https://attendee.gotowebinar.com/register/2296218256164279042. Registrants will receive confirmation after they have been successfully registered. If you need special accommodations due to a disability, please contact Tim Ramsey, (240) 562-1758 or tim.ramsey@ee.doe.gov, no later than February 9, 2016.

The objective of the meeting is to ask for public input regarding the project described above. To that end, it would be most helpful if members of the public provide information based on their personal experience, individual advice, and facts regarding this topic. It is not the objective of this meeting to obtain any group position or consensus. Rather, the DOE is seeking as many recommendations as possible from all individuals at this meeting.

Issued in Washington, DC on January 11, 2016.
Jose Zayas,
Director, Wind and Water Power Technologies Office, Energy Efficiency and Renewable Energy.

[FR Doc. 2016-01293 Filed 1-21-16; 8:45 am]

BILLING CODE 6450-01-P